DEPARTMENT OF COMMERCE

International Trade Administration

[A-533-883]

Glycine From India: Preliminary Results and Rescission, In Part, of Antidumping Duty Administrative Review; 2022-2023

AGENCY: Enforcement and Compliance, International Trade Administration, Department of Commerce.

SUMMARY: The U.S. Department of Commerce (Commerce) preliminarily finds that certain producers and/or exporters subject to this administrative review did not make sales of subject merchandise at less than normal value during the period of review (POR) June 1, 2022, through May 31, 2023. Interested parties are invited to comment on these preliminary results.

DATES: Applicable July 5, 2024.

FOR FURTHER INFORMATION CONTACT: Peter K. Farrell or Tyler R. Weinhold, AD/CVD Operations, Office VI, Enforcement and Compliance, International Trade Administration, U.S. Department of Commerce, 1401 Constitution Avenue NW, Washington, DC 20230; telephone: (202) 482-2104 or (202) 482-1121, respectively.

SUPPLEMENTARY INFORMATION:

Background

On June 21, 2019, Commerce published in the Federal Register an antidumping duty order on glycine from India.¹ On June 1, 2023, Commerce published in the Federal Register a notice of opportunity to request an administrative review of the Order.² On August 3, 2023, Commerce published the notice of initiation of the administrative review of the Order, covering 30 foreign producers and/or exporters.³ On February 27, 2024, we extended the time limit for completion of these preliminary results to June 27, 2024, in accordance with section 751(a)(3)(A) of the Tariff Act of 1930, as amended (the Act).⁴

¹ See Glycine from India and Japan: Amended Final Affirmative Antidumping Duty Determination and Antidumping Duty Orders, 84 FR 29170 (June 21, 2019) (Order).

² See Antidumping or Countervailing Duty Order, Finding, or Suspended Investigation; Opportunity to Request Administrative Review and Join Annual Inquiry Service List, 88 FR 35835 (June 1, 2023).

³ See Initiation of Antidumping and Countervailing Duty Administrative Reviews, 88 FR 44262 (July 12, 2023) (Initiation Notice).

⁴ See Memorandum, “Extension of Deadline for Preliminary Results of Antidumping Duty Administrative Review,” dated February 27, 2024.

Scope of the Order

The product covered by the scope of the Order is glycine from India. For a complete description of the scope of the Order, see the Preliminary Decision Memorandum.⁵

⁵ See Memorandum, “Decision Memorandum for the Preliminary Results of the Administrative Review of the Antidumping Duty Order on Glycine from India; 2022-2023,” dated concurrently with, and hereby adopted by, this notice (Preliminary Decision Memorandum).

Partial Rescission of Administrative Review

Pursuant to 19 CFR 351.213(d)(1), Commerce will rescind an administrative review, in whole or in part, if the parties that requested a review withdraw the request within 90 days of the date of publication of the notice of initiation. Commerce received requests for review from Avid Organics Private Limited (Avid), a producer and exporter of subject merchandise,⁶ Bajaj Healthcare Limited (Bajaj), a producer and exporter of subject merchandise,⁷ Paras Intermediaries Private Limited (Paras), an exporter of subject merchandise,⁸ and GEO Specialty Chemicals, Inc. (GEO), a domestic interested party.⁹ On September 22, 2023, Paras withdrew its review request.¹⁰ On November 1, 2023, GEO withdrew its requests for review with respect to 28 companies.¹¹ Therefore all review requests were withdrawn for all companies listed in the Initiation Notice, except for Avid, Bajaj, and Kumar. Because the requests for review were timely withdrawn for the remaining 27 companies and no other parties requested a review of these companies, in accordance with 19 CFR 351.213(d)(1), Commerce is partially rescinding this review of the Order for these companies, identified in Appendix II of this notice.

⁶ Avid requested a review of itself. See Avid's Letter, “Request for Anti-Dumping Duty Administrative Review,” dated June 28, 2023.

⁷ Bajaj requested a review of itself. See Bajaj's Letter, “Request for An Administrative Review,” dated June 30, 2023.

⁸ Paras requested a review of itself. See Paras' Letter, “Request for Anti-Dumping Duty Administrative Review,” dated June 28, 2023.

⁹ GEO requested a review of the following companies: (1) Aditya Chemicals; (2) Adwith Nutrichem Private Limited; (3) Alchemos Private Limited; (4) Alka Chemical Industries; (5) Alkanb Chemicals; (6) Avid; (7) Bajaj; (8) Eagle Chemical Works; (9) Global Merchants; (10) Indiana Chem-Port; (11) J.R. International; (12) Jain Specialties Fine Chemicals; (13) JR Corporation; (14) Kaaha Overseas; (15) Kronox Lab Sciences Ltd.; (16) Kumar Industries (Kumar); (17) Ladleadd; (18) Lucas-TVS Limited; (19) Medbion Healthcare Private Limited; (20) Medilane Healthcare Pvt. Ltd.; (21) Meteoric Biopharmaceuticals; (22) Natural and Essential Oils Private Limited; (23) Pan Chem Corporation; (24) Papchem Lifesciences (OPC) Private Limited; (25) Paras; (26) Reliance Rasayan Pvt. Ltd.; (27) Rexisize Rasayan Industries; (28) Shari Pharmachem Pvt., Ltd.; (29) Tarkesh Trading Company; (30) Venus International; see Geo's Letter, “Request for Administrative Review,” June 30, 2023.

¹⁰ See Paras' Letter, “Withdrawal of Review Request for Anti-Dumping Duty Administrative Review,” dated September 22, 2023.

¹¹ See GEO's letter, “Partial Withdrawal of Request for Administrative Review,” dated October 31, 2024. GEO withdrew its request for 28 out of the 30 companies for which it requested a review, including Bajaj and Paras, but did not withdraw its request for review for Avid or Kumar. Bajaj did not withdraw its own request for review of itself.

Methodology

Commerce is conducting this review in accordance with section 751(a) of the Act. For a full description of the methodology underlying these preliminary results, see the Preliminary Decision Memorandum.¹² A list of the topics discussed in the Preliminary Decision Memorandum is included in Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

¹² See Preliminary Decision Memorandum.

Preliminary Results of Review

We preliminarily determine that the following weighted-average dumping margin exists for the period June 1, 2022, through May 31, 2023:

Exporter/producer | Estimated weighted- average dumping margin (percent)
Avid Organics Private Limited | 0.00
Kumar Industries | 0.00
Bajaj Healthcare Limited | 0.00

Disclosure and Public Comment

Commerce intends to disclose to interested parties its calculations performed in these preliminary results, within five days of any public announcement or, if there is no public announcement, within five days of the date of publication of this notice in the Federal Register, in accordance with 19 CFR 351.224(b).

Pursuant to 19 CFR 351.309(c)(1)(ii), interested parties may submit case briefs or other written comments to the Assistant Secretary for Enforcement and Compliance no later than 30 days after the date of publication of this notice.¹³ Rebuttal briefs, limited to issues raised in the case briefs, may be filed not later than five days after the date for filing case briefs.¹⁴ Interested parties who submit case or rebuttal briefs in this proceeding must submit: (1) a table of contents listing each issue; and (2) a table of authorities.¹⁵

¹³ See 19 CFR 351.303 (for general filing requirements).

¹⁴ See 19 CFR 351.309(d); see also Administrative Protective Order, Service, and Other Procedures in Antidumping and Countervailing Duty Proceedings, 88 FR 67069, 67077 (September 29, 2023).

¹⁵ See 19 351.309(c)(2) and (d)(2).

As provided under 19 CFR 351.309(c)(2) and (d)(2), in prior proceedings we have encouraged interested parties to provide an executive summary of their brief that should be limited to five pages total, including footnotes. In this administrative review, we instead request that interested parties provide, at the beginning of their briefs, a public executive summary for each issue raised in their briefs.¹⁶ Further, we request that interested parties limit their public executive summary of each issue to no more than 450 words, not including citations. We intend to use the public executive summaries as the basis of the comment summaries included in the issues and decision memorandum that will accompany the final results in this administrative review. We request that interested parties include footnotes for relevant citations in the executive summary of each issue. Note that Commerce has amended certain of its requirements pertaining to the service of documents in 19 CFR 351.303(f).¹⁷

¹⁶ We use the term “issue” here to describe an argument that Commerce would normally address in a comment of the Issues and Decision Memorandum.

¹⁷ See Administrative Protective Order, Service, and Other Procedures in Antidumping and Countervailing Duty Proceedings; Final Rule, 88 FR 67069 (September 29, 2023).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) the party's name, address, and telephone number; (2) the number of participants and whether any participant is a foreign national; and (3) a list of the issues to be discussed. If a request for a hearing is made, Commerce intends to hold the hearing at a time and date to be determined. Parties should confirm by telephone the date, time, and location of the hearing two days before the scheduled date.

All submissions, including case and rebuttal briefs, as well as hearing requests, should be filed via ACCESS.¹⁸ An electronically filed document must be received successfully in its entirety by ACCESS by 5:00 p.m. Eastern Time on the established deadline.

¹⁸ See 19 CFR 351.303(b).

Final Results of Review

Commerce intends to issue the final results of this administrative review, including the results of its analysis of the issues raised in any written briefs, no later than 120 days after the date of publication of this notice in the Federal Register, unless extended, pursuant to section 751(a)(3)(A) of the Act and 19 CFR 351.213(h)(1).

Assessment Rates

Upon completion of this administrative review, pursuant to section 751(a)(2)(A) of the Act, Commerce shall determine, and U.S. Customs and Border Protection (CBP) shall assess, antidumping duties on all appropriate entries covered by this review. If the weighted-average dumping margin for a mandatory respondent is not zero or de minimis in the final results of this review, we will calculate an importer-specific assessment rate on the basis of the ratio of the total amount of dumping calculated for each importer's examined sales and the total entered value of such sales in accordance with 19 CFR 351.212(b)(1).¹⁹ If the weighted-average dumping margin is zero or de minimis in the final results of review, or if an importer-specific assessment rate is zero or de minimis, Commerce will instruct CBP to liquidate appropriate entries without regard to antidumping duties.²⁰ For entries of subject merchandise during the POR produced by the respondent(s) for which it did not know its merchandise was destined for the United States, we will instruct CBP to liquidate such entries at the all-others rate ²¹ if there is no rate for the intermediate company(ies) involved in the transaction.²² The final results of this administrative review shall be the basis for the assessment of antidumping duties on entries of merchandise under review and for future cash deposits of estimated antidumping duties, where applicable.

¹⁹ See Antidumping Proceedings: Calculation of the Weighted-Average Dumping Margin and Assessment Rate in Certain Antidumping Proceedings: Final Modification, 77 FR 8101, 8103 (February 14, 2012).

²⁰ Id., 77 FR at 8102-03; see also 19 CFR 351.106(c)(2).

²¹ The all-others rate is 7.23 percent. See Glycine from India: Final Determination of Sales at Less Than Fair Value, 84 FR 18487 (May 1, 2019).

²² See Antidumping and Countervailing Duty Proceedings: Assessment of Antidumping Duties, 68 FR 23954 (May 6, 2003).

For the companies for which we are rescinding this administrative review, antidumping duties shall be assessed at rates equal to the cash deposit of estimated antidumping duties required at the time of entry, or withdrawal from warehouse, for consumption, during the period of review, in accordance with 19 CFR 351.212(c)(1)(i). For these companies, Commerce intends to issue assessment instructions to CBP no earlier than 35 days after the date of publication of these preliminary results in the Federal Register.

Consistent with its recent notice,²³ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication). The final results of this administrative review shall be the basis for the assessment of antidumping duties on entries of merchandise under review and for future cash deposits of estimated antidumping duties, where applicable.

²³ See Notice of Discontinuation of Policy to Issue Liquidation Instructions After 15 Days in Applicable Antidumping and Countervailing Duty Administrative Proceedings, 86 FR 3995 (January 15, 2021).

Cash Deposit Requirements

The following cash deposit requirements will be effective upon publication in the Federal Register of the final results of this administrative review for all shipments of the subject merchandise entered, or withdrawn from warehouse, for consumption on or after the date of publication, as provided by section 751(a)(2)(C) of the Act: (1) the cash deposit rate for companies subject to this review will be equal to the company-specific weighted-average dumping margin established in the final results of this administrative review; (2) for merchandise exported by a company not covered in this review but covered in a prior segment of the proceeding, the cash deposit rate will continue to be the company-specific rate published in the completed segment for the most recent period; (3) if the exporter is not a firm covered in this review, a prior review, or the less-than-fair-value investigation but the producer is, then the cash deposit rate will be the rate established in the most recently completed segment of the proceeding for the producer of the merchandise; and (4) the cash deposit rate for all other producers or exporters will continue to be 7.23 percent, the all-others rate established in the less-than-fair value investigation.²⁴ These cash deposit requirements, when imposed, shall remain in effect until further notice.

²⁴ See Order, 88 FR at 29171.

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act and 19 CFR 351.221(b)(4).

Dated: June 27, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Affiliation and Collapsing

V. Discussion of the Methodology

VI. Currency Conversion

VII. Recommendation

Appendix II

Companies Rescinded From Administrative Review

(1) Aditya Chemicals;

(2) Adwith Nutrichem Private Limited;

(3) Alchemos Private Limited;

(4) Alka Chemical Industries;

(5) Alkanb Chemicals;

(6) Eagle Chemical Works;

(7) Global Merchants;

(8) Indiana Chem-Port;

(9) J.R. International;

(10) Jain Specialties Fine Chemicals;

(11) JR Corporation;

(12) Kaaha Overseas;

(13) Kronox Lab Sciences Ltd.;

(14) Ladleadd;

(15) Lucas-TVS Limited;

(16) Medbion Healthcare Private Limited;

(17) Medilane Healthcare Pvt. Ltd.;

(18) Meteoric Biopharmaceuticals;

(19) Natural and Essential Oils Private Limited;

(20) Pan Chem Corporation;

(21) Paras;

(22) Papchem Lifesciences (OPC) Private Limited;

(23) Reliance Rasayan Pvt. Ltd.;

(24) Rexisize Rasayan Industries;

(25) Shari Pharmachem Pvt., Ltd.;

(26) Tarkesh Trading Company;

(27) Venus International

[FR Doc. 2024-14713 Filed 7-3-24; 8:45 am]

BILLING CODE 3510-DS-P